DEPARTMENT OF DEFENSE

Department of the Navy

[Docket ID: USN-2008-0038]

Privacy Act of 1974; System of Records

AGENCY: Department of the Navy, DoD.

ACTION: Notice To Alter a System of Records.

SUMMARY: The Department of the Navy proposes to alter a system of records notice in its existing inventory of records systems subject to the Privacy Act of 1974, (5 U.S.C. 552a), as amended.

DATES: This proposed action will be effective without further notice on May 30, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on April 23, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 24, 2008.
Patricia Toppings,
OSD Federal Register Liaison Officer, Department of Defense.

N01752-2

System Name:

Transitional Compensation for Abused Dependents.

Changes:

Delete entry and replace “N01752-2” with “NM01752-2”.

System Name:

Delete entry and replace with “DON Transitional Compensation for Abused Dependents.”

System Location:

Delete entry and replace with “Commander, Navy Installations Command (N911B), Detachment Millington, Building 457, 5720 Integrity Drive, Millington, TN 38055-6500.

Commandant of the Marine Corps, Headquarters, United States Marine Corps, Manpower and Reserve Affairs (MR), Prevention and Intervention Counseling Services (MRRO), 3280 Russell Road, Quantico, VA 22134-5103.”

* * * * *

Categories of Records in the System:

Delete entry and replace with “DD Form 2698, Application for Transitional Compensation; payment schedule; case processing record; direct-deposit form; annual certification form; acknowledgment of actions form; and correspondence to and from the Defense Finance and Accounting Service (DFAS).”

Authority for Maintenance of the System:

Delete entry and replace with “10 U.S.C. 5013, Secretary of the Navy; 10 U.S.C. 5041, Headquarters, Marine Corps; 10 U.S.C. Sections 801-940, 860(c), 1059, 1077, and 1408(b); 38 U.S.C. 1311 and 1313; DoD Instruction 1342.24, Transitional Compensation for Abused Dependents and E.O. 9397 (SSN).”

* * * * *

Storage:

Delete entry and replace with “Paper records and networked databases.”

* * * * *

Safeguards:

Delete entry and replace with “Password controlled system, file, and element access based on predefined need-to-know. Physical access to terminals, terminal rooms, buildings and activities' grounds are controlled by locked terminals and rooms, guards, personnel screening or visitor registers.”

Retention and Disposal:

Delete entry and replace with “Records are retained for three years and then destroyed.”

System Manager(s) and Address:

Delete entry and replace with “Commander, Navy Installations Command (N911B), Detachment Millington, Building 457, 5720 Integrity Drive, Millington, TN 38055-6500.

Commandant of the Marine Corps, Headquarters, United States Marine Corps, Manpower and Reserve Affairs (MR), Prevention and Intervention Counseling Services (MRRO), 3280 Russell Road, Quantico, VA 22134-5103.”

Notification Procedure:

Delete entry and replace with “Navy: Individuals seeking to determine whether information about themselves is contained in this system should address written inquiries to the Commander, Navy Installations Command (N911B), Detachment Millington, Building 457, 5720 Integrity Drive, Millington, TN 38055-6500.

Marine Corps: Individuals seeking to determine whether information about themselves is contained in this system should address written inquiries to Headquarters, U.S. Marine Corps ARAD, FOIA/PA USMC, 2 Navy Annex, Room 3134, Washington, DC 20380-1775.

Requests should contain full name, Social Security Number (SSN) of the individual and be signed.”

Record Access Procedures:

Delete entry and replace with “Navy: Individuals seeking access to records about themselves contained in this system of records should address written inquiries to the Commander, Navy Installations Command (N911B), Detachment Millington, Building 457, 5720 Integrity Drive, Millington, TN 38055-6500.

Marine Corps: Individuals seeking to determine whether information about themselves is contained in this system should address written inquiries to Headquarters, U.S. Marine Corps ARAD, FOIA/PA USMC, 2 Navy Annex, Room 3134, Washington, DC 20380-1775.

Requests should contain full name, Social Security Number (SSN) of the individual and be signed.”

* * * * *

Record Source Categories:

Delete entry and replace with “Individual and military personnel record file.”

* * * * *

NM01752-2

System Name:

DON Transitional Compensation for Abused Dependents.

System Location:

Commander, Navy Installations Command (N911B), Detachment Millington, Building 457, 5720 Integrity Drive, Millington, TN 38055-6500.

Commandant of the Marine Corps, Headquarters, United States Marine Corps, Manpower and Reserve Affairs (MR), Prevention and Intervention Counseling Services (MRRO), 3280 Russell Road, Quantico, VA 22134-5103.

Categories of Individuals Covered by the System:

Abused dependents who received transitional compensation.

Categories of Records in the System:

DD Form 2698, Application for Transitional Compensation; payment schedule; case processing record; direct-deposit form; annual certification form; acknowledgment of actions form; and correspondence to and from the Defense Finance and Accounting Service (DFAS).

Authority for Maintenance of the System:

10 U.S.C. 5013, Secretary of the Navy; 10 U.S.C. 5041, Headquarters, Marine Corps; 10 U.S.C. Sections 801-940, 860(c), 1059, 1077, and 1408(b); 38 U.S.C. 1311 and 1313; DoD Instruction 1342.24, Transitional Compensation for Abused Dependents and E.O. 9397 (SSN).

Purpose(s):

To coordinate requests for transitional compensation, to approve requests and forward them to DFAS, and to notify DFAS of any action that affects payment of transitional compensation.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The “Blanket Routine Uses” that appear at the beginning of the Navy's compilation of systems of records notices also apply to this system.

Policies and Practices for Storing, Retrieving, Accessing, Retaining, and Disposing of Records in the System:

Storage:

Paper records and networked databases.

Retrievability:

Name and Social Security Number.

Safeguards:

Password controlled system, file, and element access based on predefined need-to-know. Physical access to terminals, terminal rooms, buildings and activities' grounds are controlled by locked terminals and rooms, guards, personnel screening or visitor registers.

Retention and disposal:

Records are retained for three years and then destroyed.

System Manager(s) and Address:

Commander, Navy Installations Command (N911B), Detachment Millington, Building 457, 5720 Integrity Drive, Millington, TN 38055-6500.

Commandant of the Marine Corps, Headquarters, United States Marine Corps, Manpower and Reserve Affairs (MR), Prevention and Intervention Counseling Services (MRRO), 3280 Russell Road, Quantico, VA 22134-5103.

Notification Procedure:

Navy: Individuals seeking to determine whether information about themselves is contained in this system should address written inquiries to the Commander, Navy Installations Command (N911B), Detachment Millington, Building 457, 5720 Integrity Drive, Millington, TN 38055-6500.

Marine Corps: Individuals seeking to determine whether information about themselves is contained in this system should address written inquiries to Headquarters, U.S. Marine Corps ARAD, FOIA/PA USMC, 2 Navy Annex, Room 3134, Washington, DC 20380-1775.

Requests should contain full name, Social Security Number (SSN) of the individual and be signed.

Record Access Procedures:

Navy: Individuals seeking access to records about themselves contained in this system of records should address written inquiries to the Commander, Navy Installations Command (N911B), Detachment Millington, Building 457, 5720 Integrity Drive, Millington, TN 38055-6500.

Marine Corps: Individuals seeking to determine whether information about themselves is contained in this system should address written inquiries to Headquarters, U.S. Marine Corps ARAD, FOIA/PA USMC, 2 Navy Annex, Room 3134, Washington, DC 20380-1775.

Requests should contain full name, Social Security Number (SSN) of the individual and be signed.

Contesting Record Procedures:

The Navy's rules for accessing records and for contesting contents and appealing initial agency determinations are published in Secretary of the Navy Instruction 5211.5, 32 CFR part 701; or may be obtained from the system manager.

Record Source Categories:

Individual and military personnel record file.

Exemptions Claimed for the System:

None.

[FR Doc. E8-9391 Filed 4-29-08; 8:45 am]

BILLING CODE 5001-06-P